DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Current Population Survey, June Fertility Supplement.

OMB Control Number: 0607-0610.

Form Number(s): None.

Type of Request: Revision of a currently approved collection.

Burden Hours: 500.

Number of Respondents: 30,000.

Average Hours Per Response: 1 minute.

Needs and Uses: The purpose of this request for review is to obtain clearance for the supplemental inquiry concerning fertility to be conducted biennially in conjunction with the June Current Population Survey (CPS).

The 2012 Fertility Supplement will ask fertility questions and questions on marital and cohabitation status of females 15-50 years of age. The new questions on marital and cohabitation status will provide additional information about mothers' living arrangements at the time of the first birth. The June Fertility Supplements, June 2010 and 2008, both asked women about the birth of the last child, which differ from the June 1998 and the June 1995 supplements because they only included fertility items. The 1998 supplement contained fertility and birth expectations items. The 1995 supplement contained fertility and marital history items.

The data collected from this supplement are used primarily by government and private analysts to project future population growth, to analyze childbearing patterns, and to assist policymakers in making decisions that are affected by changes in family size and composition. Past studies have documented profound changes to historical patterns that have occurred in fertility rates, family structures, premarital births, and the timing of the first birth. The data collected from the new questions on marital and cohabitation status will be used by government and private analysts to analyze mother's living situations at the time of the first birth; the data will also fill a need for information that is not available in other Census Bureau surveys.

The CPS characteristics, such as family income, household relationships, and labor force status, when matched with fertility data, can produce estimates of potential needs families may have for governmental assistance; for example, aid to families with dependent children, childcare, and maternal health care for single-parent households. The fertility data also assist researchers and analysts who explore such important issues as premarital childbearing and postponement of childbirth because of educational or occupational responsibilities and goals. As a result of the rapid changes in the economy, the June Fertility supplement offers analysts with a key indicator of family economic resources, namely, the employment status of women with infant children.

Discontinuance of the Fertility Supplement would interrupt a data series, which is built upon previous surveys first collected in June 1971. Without current fertility data for the most recent female cohorts (age 18-24) would be missing in fertility projections. The statistics and projections from these data are useful for legislators in the public sector and businesses that make policy and resource decisions about childcare, development, and changes in family life.

Affected Public: Individuals or households.

Frequency: Biennially.

Respondent's Obligation: Voluntary.

Legal Authority: Title 13 U.S.C., Section 182.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: March 19, 2012.
Glenna Mickelson,
Management Analyst, Office of the Chief Information Officer.

[FR Doc. 2012-6944 Filed 3-21-12; 8:45 am]

BILLING CODE 3510-07-P